DEPARTMENT OF COMMERCE

Foreign-Trade Zones Board

[B-58-2016]

Foreign-Trade Zone (FTZ) 46G—Cincinnati, Ohio, Notification of Proposed Production Activity, Givaudan Flavors Corporation, (Flavor Products), Cincinnati, Ohio

Givaudan Flavors Corporation (Givaudan) submitted a notification of proposed production activity to the FTZ Board for its facility in Cincinnati, Ohio within Subzone 46G. The notification conforming to the requirements of the regulations of the FTZ Board (15 CFR 400.22) was received on August 25, 2016.

The Givaudan facility is used for the production of flavor compounds. Pursuant to 15 CFR 400.14(b), FTZ activity would be limited to the specific finished products described in the submitted notification (as described below) and subsequently authorized by the FTZ Board.

Production under FTZ procedures could exempt Givaudan from customs duty payments on the foreign status components used in export production. On its domestic sales, for the foreign status components in the existing scope of authority, Givaudan would be able to choose the duty rates during customs entry procedures that apply to food articles containing sugar, other cyclanes, cyclenes and cycloterpenes, other cyclic hydrocarbons, acyclic terpene alcohols, butanoic acids, pentanoic acids, their salts and esters, citrus oil blends, aqueous distillates and aqueous solutions of essential oils, and terpenic by-products of the deterpenation of essential oils (duty rate ranges from free to 6.4%). Customs duties also could possibly be deferred or reduced on foreign status production equipment.

Public comment is invited from interested parties. Submissions shall be addressed to the FTZ Board's Executive Secretary at the address below. The closing period for their receipt is October 25, 2016.

A copy of the notification will be available for public inspection at the Office of the Executive Secretary, Foreign-Trade Zones Board, Room 21013, U.S. Department of Commerce, 1401 Constitution Avenue NW., Washington, DC 20230-0002, and in the “Reading Room” section of the FTZ Board's Web site, which is accessible via www.trade.gov/ftz.

For further information, contact Kathleen Boyce at Kathleen.Boyce@trade.gov or (202) 482-1346.

Dated: September 6, 2016.
Andrew McGilvray,
Executive Secretary.

[FR Doc. 2016-22095 Filed 9-14-16; 8:45 am]

BILLING CODE 3510-DS-P